DEPARTMENT OF THE INTERIOR

National Park Service

[NPS-WASO-NRNHL-23018: PPWOCRADI0, PCU00RP14.R50000]

National Register of Historic Places; Notification of Pending Nominations and Related Actions

AGENCY: National Park Service, Interior.

ACTION: Notice.

SUMMARY: The National Park Service is soliciting comments on the significance of properties nominated before February 25, 2017, for listing or related actions in the National Register of Historic Places.

DATES: Comments should be submitted by April 13, 2017.

ADDRESSES: Comments may be sent via U.S. Postal Service to the National Register of Historic Places, National Park Service, 1849 C St. NW., MS 2280, Washington, DC 20240; by all other carriers, National Register of Historic Places, National Park Service, 1201 Eye St. NW., 8th floor, Washington, DC 20005; or by fax, 202-371-6447.

SUPPLEMENTARY INFORMATION: The properties listed in this notice are being considered for listing or related actions in the National Register of Historic Places. Nominations for their consideration were received by the National Park Service before February 25, 2017. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

COLORADO

Park County

Como Cemetery, (Park County, Colorado Historic Cemeteries), Cty. Rd. 33, Como vicinity, MP100000842

DELAWARE

New Castle County

Holly Oak, 1503 Ridge Rd., Claymont vicinity, SG100000843

Jackson—Wilson House, 12 Red Oak Rd., Wilmington, SG100000844

DISTRICT OF COLUMBIA

District of Columbia

Holzbeierlein Bakery, 1815-1827 Wiltberger St. NW., Washington, SG100000845

Virginia Interlocking Control Tower, SE. corner of 2nd St. SW. & Virginia Ave. SW., Washington, SG100000846

ILLINOIS

Rock Island County

Garfield Elementary School, 1518 25th Ave., Moline, SG100000848

MASSACHUSETTS

Essex County

Winter Street School,

165 Winter St., Haverhill, SG100000849

Norfolk County

Rockwood Road Historic District, Roughly Rockwood Rd. from MBTA tracks to Boardman St., Norfolk, SG100000850

MISSOURI

St. Charles County

Commons Neighborhood Historic District, Roughly bounded by Benton Ave., Clark, 5th, Randolph, Kingshighway, 7th & 6th Sts., St. Charles, SG100000851

NEW JERSEY

Bergen County

Woman's Club of Rutherford Clubhouse, 201 Fairview Ave., Rutherford Borough, SG100000852

PENNSYLVANIA

Bucks County

Highland Park Camp Meeting, 415 Highland Park Rd., Sellersville, SG100000854

Delaware County

Llanerch Public School, (Educational Resources of Pennsylvania MPS), 5 Llandillo Rd., Haverford Township, MP100000855

Marcus Hook Plank House, 221 Market St., Marcus Hook, SG100000856

Philadelphia County

Kahn, Harry C. and Son, Warehouse, 3101-27 W. Glenwood Ave., Philadelphia, SG100000857

TENNESSEE

Putnam County

Science Building, The, 1 William L. Jones Dr., Cookeville, SG100000858

Shelby County

Rock of Ages Christian Methodist Episcopal Church, 478 Scott St., Memphis, SG100000859

TEXAS

Bastrop County

Lower Elgin Road Bridge at Wilbarger Creek, (Road Infrastructure of Texas, 1866-1965 MPS), Cty. Rd. 55 at Wilbarger Cr., Utley vicinity, MP100000860

Dallas County

Garland Downtown Historic District, Roughly bounded by W. State St., Santa Fe rail line, W. Ave. A & Glenbrook Dr., Garland, SG100000861

Tarrant County

Woman's Club of Fort Worth, The, N. side, 1300 blk. Pennsylvania Ave., Fort Worth, SG100000862

WISCONSIN

Winnebago County

Washington Avenue Neoclassical Historic District, Generally bounded by the 100 & 200 blks. of Washington Ave., Oshkosh, SG100000863

An additional documentation has been received for the following resource(s):

CALIFORNIA

Riverside County

March Field Historic District, Eschscholtzia Ave., March Air Force Base, Riverside vicinity, AD94001420

OHIO

Franklin County

American Insurance Union Citadel (Palace Theatre Amendment), 34 W. Broad St., Columbus, AD75001398

Authority: 60.13 of 36 CFR part 60.

Dated: March 1, 2017.
J. Paul Loether,
Chief, National Register of Historic Places/National Historic Landmarks Program.

[FR Doc. 2017-06153 Filed 3-28-17; 8:45 am]

BILLING CODE 4312-52-P